DEPARTMENT OF THE INTERIOR

Fish and Wildlife Service

[FWS-R4-R-2008-N0132; 40136-1265-0000-S3]

Red River National Wildlife Refuge, Caddo, Bossier, DeSoto, Natchitoches, and Red River Parishes, LA

AGENCY: Fish and Wildlife Service, Interior.

ACTION: Notice of availability; final comprehensive conservation plan and finding of no significant impact.

SUMMARY: We, the Fish and Wildlife Service (Service), announce the availability of our final comprehensive conservation plan (CCP) and finding of no significant impact (FONSI) for Red River National Wildlife Refuge (NWR). In the final CCP, we describe how we will manage this refuge for the next 15 years.

ADDRESSES: A copy of the CCP may be obtained by writing to: Red River NWR, 11372 Highway 143, Farmerville, LA 71241. The plan may also be accessed and downloaded from the Service's Web site: http://southeast.fws.gov/planning.

FOR FURTHER INFORMATION CONTACT: Mr. George Chandler, Refuge Manager, North Louisiana National Wildlife Refuge Complex; Telephone: 318/726-4222; fax: 318/726-4667; e-mail: george_chandler@fws.gov.

SUPPLEMENTARY INFORMATION:

Introduction

With this notice, we finalize the CCP process for Red River NWR. We started this process through a notice in the Federal Register on March 13, 2006 (71 FR 12710). For more about the process, see that notice.

On October 13, 2000, House Resolution 4318, the Red River National Wildlife Refuge Act, was signed into law (Pub. L. 106-300). This legislation authorized the establishment of the Red River NWR to provide for the restoration and conservation of fish and wildlife habitats in the Red River Valley ecosystem in northwest Louisiana. Red River NWR is a unit of the North Louisiana National Wildlife Refuge Complex, which also includes D'Arbonne, Upper Ouachita, Black Bayou Lake, and Handy Brake Refuges, as well as the Louisiana Wetlands Management District. Each refuge has its own unique issues, requiring separate planning efforts and public involvement.

The Red River NWR, stretching 120 miles along the Red River Valley from Colfax, Louisiana, near its southern boundary to the Arkansas state line, will play an important role regionally in fulfilling the goals of the National Wildlife Refuge System. According to legislation, the refuge shall consist of up to 50,000 acres from the Headquarters Unit and four focus units within a selection area covering 220,000 acres. Currently, the Service has acquired 9,788 acres and has 40,212 acres remaining to purchase. The lands within the five units (e.g., Headquarters, Wardview, Spanish Lake Lowlands, Bayou Pierre, and Lower Cane River focus areas) will be acquired through a combination of fee title purchases from willing sellers and through conservation easements, leases, and/or cooperative agreements from willing landowners. Currently, fee title lands have been purchased within portions of all the focus units except Wardview. Red River NWR's proximity to a major metropolitan center will afford the public the ability to participate in educational opportunities that promote wildlife stewardship.

Currently, the five units of the refuge include 3,742 acres of reforested bottomland hardwood forest; 317 acres of bottomland forest; 261 acres of riparian habitat; 194 acres of cypress swamp; 600 acres of moist soils; 1,125 acres of agricultural fields; 124 acres in a pecan orchard; 64 acres dominated by groundsel-tree (Baccharis halimifolia); 217 acres of honey locust; and 153 acres of old field that was grazed and is currently invaded by wild plum and invasive species. In addition, about 443 acres of the refuge consist of oxbow lakes, Red River tributaries, borrow pits, and irrigation ditches. Currently, minimal public use occurs on the refuge besides hunting, fishing, and some wildlife observation.

We announce our decision and the availability of the final CCP and FONSI for Red River NWR in accordance with the National Environmental Policy Act (NEPA) (40 CFR 1506.6(b)) requirements. We completed a thorough analysis of impacts on the human environment, which we included in the draft comprehensive conservation plan and environmental assessment (Draft CCP/EA).

The CCP will guide us in managing and administering Red River NWR for the next 15 years. Alternative C, as we described in the final CCP, is the foundation for the CCP.

The compatibility determinations for (1) wildlife observation and photography; (2) environmental education and interpretation; (3) big game hunting; (4) small game hunting; (5) migratory bird hunting; (6) fishing; (7) hiking, jogging, and walking; (8) boating; (9) all-terrain vehicles; (10) berry/fruit picking; (11) bicycling; and (12) cooperative farming are also available within the final CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 150 copies of the Draft CCP/EA were made available for a 30-day public review period as announced in the Federal Register on April 14, 2008 (73 FR 20059). Five written comments were received from local citizens and the Louisiana Department of Wildlife and Fisheries.

Selected Alternative

After considering the comments we received, we have selected Alternative C for implementation. The primary focus under Alternative C will be to optimize the biological and visitor use programs. Land acquisition, reforestation, and resource protection at Red River NWR will be intensified from the level now maintained under the No Action Alternative. The refuge will expand the approved acquisition boundary to incorporate 1,413 acres in the Spanish Lake Lowlands Unit; 87 acres in the Headquarters Unit; and 1,938 acres in the Lower Cane Unit. Alternative C will provide a full-time law enforcement officer, an equipment operator, a maintenance worker, a wildlife biologist, an assistant manager, an administrative assistant, and an outdoor recreational specialist. Public use and environmental education will increase. Within three years of the date of the CCP, the refuge will develop a Visitor Services' Plan to be used in expanding public use facilities and opportunities. This step-down management plan will provide overall, long-term guidance and direction in developing and running a larger public use program. Federal funds are now available to construct a refuge headquarters/visitor center at the Headquarters Unit. The new visitor center will include a small auditorium for use in talks, meetings, films, videos, and other audiovisual presentations. Alternative C will also increase opportunities for visitors by adding facilities such as photo blinds, observation sites, and trails.

Within five years of the date of the CCP, we will prepare a Fishing Plan that will outline and expand permissible fishing opportunities within the refuge. The refuge will also construct a fishing pier at the Headquarters Unit. Staff will investigate opportunities for expanding hunting possibilities.

Alternative C is considered to be the most effective for meeting the purposes of the refuge by conserving, restoring, and managing the refuge's habitats and wildlife, while optimizing wildlife-dependent public uses. Alternative C will best achieve national, ecosystem, and refuge-specific goals and objectives and it positively addresses significant issues and concerns expressed by the public.

Authority: This notice is published under the authority of the National Wildlife Refuge System Improvement Act of 1997, Public Law 105-57.

Dated: May 27, 2008.
Jon Andrew,
Acting Regional Director.

[FR Doc. E8-16822 Filed 7-22-08; 8:45 am]

BILLING CODE 4310-55-P